DEPARTMENT OF THE INTERIOR

Fish and Wildlife Service

[FWS-R6-ES-2014-N146; FXES11130600000-123-FF06E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Kathy Konishi, Permit Coordinator, Ecological Services, (307) 772-2374 x248 (phone); permitsR6ES@fws.gov (email).

SUPPLEMENTARY INFORMATION: We have issued the following permits in response to recovery permit applications we received under the authority of section 10 of the Act (16 U.S.C. 1531 et seq.). Issuance of each permit occurred only after we determined that it was applied for in good faith, that granting the permit would not be to the disadvantage of the listed species, and that the terms and conditions of the permit were consistent with purposes and policy set forth in the Act.

Applicant name | Permit No. | Date issued | Date expired
AMNIS OPES INSTITUTE, LLC | 98300A | 1/16/2014 | 12/31/2018
BOULDER COUNTY PARKS AND OPEN SPACE | 0086553 | 5/30/2014 | 5/31/2019
BUREAU OF LAND MANAGEMENT | 13024B | 4/22/2014 | 12/31/2018
BUREAU OF RECLAMATION | 0094272 | 1/16/2014 | 12/31/2018
CHEYENNE RIVER SIOUX TRIBE | 0039889 | 4/30/2014 | 12/31/2018
CONFEDERATED SALISH AND KOOTENAI TRIBES | 0052315 | 4/1/2014 | 12/31/2016
FELSBURG HOLT & ULLEVIG, INC. | 09941B | 5/6/2014 | 4/30/2019
GARFIELD COUNTY COMMISSION | 31228B | 3/31/2014 | 3/31/2017
KANSAS DEPARTMENT OF TRANSPORATION | 0026913 | 2/10/2014 | 12/31/2018
LIVING PLANET AQUARIUM | 0071173 | 5/6/2014 | 4/30/2019
MILLER, TRENT A. | 0050256 | 1/16/2014 | 12/31/2018
PG ENVIRONMENTAL, LLC | 27491B | 4/1/2014 | 12/31/2018
SAGE ECOLOGICAL SERVICES | 0047289 | 1/16/2014 | 12/31/2018
SAVAGE AND SAVAGE | 0029644 | 4/1/2014 | 12/31/2018
STEGER, LAURA DEANNE | 96435A | 1/16/2014 | 12/31/2018
TATANKA GROUP LLC | 26841B | 4/17/2014 | 12/31/2018
UNIVERSITY OF NEBRASKA-LINCOLN | 0038704 | 4/1/2014 | 12/31/2018
U.S. FISH AND WILDLIFE SERVICE | 0094273 | 5/14/2014 | 12/31/2018
U.S. FOREST SERVICE | 0039901 | 3/4/2014 | 1/31/2019
U.S.G.S.-NEBRASKA WATER SCIENCE CENTER | 24637B | 4/1/2014 | 12/31/2018
UTAH DIVISION OF WILDLIFE RESOURCES | 39634B | 6/23/2014 | 6/16/2050
WESTERN ASSOCIATION OF FISH AND WILDLIFE AGENCIES | 27289B | 2/28/2014 | 2/28/2044
WETLAND DYNAMICS, LLC | 27486B | 4/22/2014 | 12/31/2018

Availability of Documents

Documents and other information submitted with these applications are available for review, subject to the requirements of the Privacy Act and Freedom of Information Act, by any party who submits a written requires for a copy of such documents to Kathy Konishi (see FOR FURTHER INFORMATION CONTACT).

Authority

We provide this notice under section 10 of the Act (16 U.S.C. 1531 et seq.).

Michael G. Thabault,
Assistant Regional Director, Mountain-Prairie Region.

[FR Doc. 2014-20464 Filed 8-27-14; 8:45 am]

BILLING CODE 4310-55-P